DEPARTMENT OF ENERGY

Federal Energy Regulatory Commission

[Docket No. RD24-1-000]

Commission Information Collection Activities (FERC-725S and FERC 725A); Comment Request; Revision & Extension

AGENCY: Federal Energy Regulatory Commission, DOE.

ACTION: Notice of information collection revision and extension and request for comments.

SUMMARY: In compliance with the requirements of the Paperwork Reduction Act of 1995, the Federal Energy Regulatory Commission (Commission or FERC) is soliciting public comment on the requirements and burden of the information collection FERC-725S—Mandatory Reliability Standards: Emergency Preparedness and Operations (EOP) Reliability Standards and FERC-725A—Mandatory Reliability Standards for the Bulk-Power System. No comments were received in response to the 60-day notice published on February 22, 2024.

DATES: Comments on the collection of information are due June 6, 2024.

ADDRESSES: Send written comments on FERC-725S and/or FERC-725A (identified by Docket No. RD24-1-000) to the Office of Management and Budget (OMB) through www.reginfo.gov/public/do/PRAMain, Attention: Federal Energy Regulatory Commission Desk Officer. Please identify the OMB Control Number 1902-0270 (Mandatory Reliability Standards: Emergency Preparedness and Operations [EOP] Reliability Standards) or OMB Control Number 1902-0244 (Mandatory Reliability Standards for the Bulk-Power System) in the subject line. Your comments should be sent within 30 days of publication of this notice in the Federal Register.

Please submit copies of your comments (identified by Docket No. RD24-1-000, FERC-725S, and/or FERC-725A) to the Commission as noted below. Electronic filing through https://www.ferc.gov is preferred.

• Electronic Filing: Documents must be filed in acceptable native applications and print-to-PDF, but not in scanned or picture format.

• For those unable to file electronically, comments may be filed by USPS mail or by hand (including courier) delivery:

Mail via U.S. Postal Service only, addressed to: Federal Energy Regulatory Commission, Secretary of the Commission, 888 First Street NE, Washington, DC 20426.

Hand (including courier) delivery to: Federal Energy Regulatory Commission, 12225 Wilkins Avenue, Rockville, MD 20852.

Please reference the specific collection number(s) (FERC-725A and/or FERC-725S) and/or title(s) (Mandatory Reliability Standards: Emergency Preparedness and Operations [EOP]) Reliability Standards) or (Mandatory Reliability Standards for the Bulk-Power System) in your comments.

Instructions: OMB submissions must be formatted and filed in accordance with submission guidelines at: www.reginfo.gov/public/do/PRAMain. Using the search function under the “Currently Under Review field,” select “Federal Energy Regulatory Commission,” click “submit,” and select “comment” to the right of the subject collection. FERC submissions must be formatted and filed in accordance with submission guidelines at: https://www.ferc.gov/ferc-online/overview. For user assistance, contact FERC Online Support by email at ferconlinesupport@ferc.gov, or by phone at (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-725S (Mandatory Reliability Standards: Emergency Preparedness and Operations (EOP) Reliability Standards)); FERC-725A (Mandatory Reliability Standards for the Bulk-Power System).

OMB Control No.: 1902-0270 & 1902-0244.

Type of Request: Revision and Extension to Existing Collections of Information in FERC-725S and FERC-725A.

Abstract: On February 15, 2024, the Commission published an order in Docket No. RD24-1-000 that approved Extreme Cold Weather Reliability Standards EOP-011-4 and TOP-002-5, which were submitted by the North American Electric Corporation (NERC).¹ The order included a 60-day notice in the Federal Register and received no comments or protests. The order modifies the FERC 725S and FERC 725A Information Collections and both information collections are currently OMB approved.

¹ 88 FR 76201.

The EOP Reliability Standards are currently located in the FERC-725S (OMB Control No. 1902-0270) collection. The collection is currently approved by OMB and contains Reliability Standards EOP-010-1, EOP-011-2, EOP-004-4, EOP-005-3, EOP-006-3, EOP-008-2, and EOP-012-1. There is one Reliability Standard that is being updated within the FERC-725S due to the revisions in Docket No. RD24-1-000: Reliability Standard EOP-011-4. The currently approved Reliability Standard is EOP-011-3, which is being replaced by Reliability Standard EOP-011-4 (table 1).

The TOP Reliability Standards are currently located in FERC-725A (OMB Control No. 1902-0270) collection. This collection is currently approved by OMB and contains Reliability Standards TOP-001-4, TOP-002-4, TOP-003-4, FAC-008-5, FAC003-2, and “Mandatory Reliability Standards” recordkeeping and reporting. There are six information collections within the FERC-725A that will remain unchanged from the revisions in Docket No. RD24-1-000. These six collections include the Reliability Standards: TOP-001-4, TOP-003-4, FAC-008-5, FAC-003-2, and “Mandatory Reliability Standards” recordkeeping and reporting. There is one Reliability Standard being updated within the FERC-725A due to revisions in Docket No. RD24-1-000: Reliability Standard TOP-002-4, which is being replaced by Reliability Standard TOP-002-5 (table 2).

Types of Respondents: Balancing Authority (BA), Transmission Operations (TOP), Reliability Coordinators (RC), UFLS-Only Distribution Providers (DP), Distribution Providers (DP), and Transmission Owners (TO).

Estimate of Annual Burden: ² The Commission based its paperwork burden estimates on the NERC compliance registry as of December 15, 2023. The Commission estimates the total annual burden and cost for this information collection in the tables below.

² “Burden” is the total time, effort, or financial resources expended by persons to generate, maintain, retain, or disclose or provide information to or for a Federal agency. For further explanation of what is included in the information collection burden, refer to 5 CFR1320.3.

Table 1—Proposed Changes to FERC 725S Due to Modifications in Docket No. RD24-1-000
Reliability standard & requirement | Type ³ and number of entity | Number of annual responses per entity | Total number of responses | Average number of burden hours per response ⁴ | Total burden hours
| (1) | (2) | (1) * (2) = (3) | (4) | (3) * (4) = (5)
FERC-725S—Proposed estimates due to RD24-1 for EOP-011-4
One Time Estimate—Years 1 and 2 in EOP-011-4
EOP-011-4 | 165 (TOP) | 1 | 165 | 40 hrs. $3,031.60 | 6,600 hrs. $500,214.00.
EOP-011-4 | 98 (BA) | 1 | 98 | 20 hrs. $1,515.80 | 1,960 hrs. $148,548.40.
EOP-011-4 | 12 (RC) | 1 | 12 | 20 hrs. $1,515.80 | 240 hrs. $18,189.60.
EOP-011-4 | 72 (UFLS-Only DP) | 1 | 72 | 40 hrs. $3,031.60 | 2,880 hrs. $218,275.20.
EOP-011-4 | 300 (DP) | 1 | 300 | 40 hrs. $3,031.60 | 12,000 hrs. $909,480.00.
EOP-011-4 | 324 (TO) | 1 | 324 | 40 hrs. $3,031.60 | 12,960 hrs. $982,238.40.
Sub-Total of EOP-011-4 (One time) |  |  | 971 |  | 36,640 hrs. $2,776,945.60.
Annualized One-Time Costs (average cost per year is calculated by the sub-total divided by 3) |  |  | 323.67 (rounded) |  | 12,213 hrs. (rounded) $925,623.27.
Ongoing Estimate—Year 3 ongoing EOP-011-4
EOP-011-4 | 165(TOP) | 1 | 165 | 20 hrs. $1,515.80 | 3,300 hrs. $250,107.00.
EOP-011-4 | 98 (BA) | 1 | 98 | 4 hrs. $303.16 | 392 hrs. $29,709.68.
EOP-011-4 | 12 (RC) | 1 | 12 | 4 hrs. $303.16 | 48 hrs. $3,637.92.
EOP-011-4 | 72 (UFLS-Only DP) | 1 | 72 | 10 hrs. $757.90 | 720 hrs. $54,568.80.
EOP-011-4 | 300 (DP) | 1 | 300 | 10 hrs. $757.90 | 3,000 hrs. $227,370.00.
EOP-011-4 | 324 (TO) | 1 | 324 | 10 hrs. $757.90 | 3,240 hrs. $245,559.60.
Sub-Total of EOP-011-4 (ongoing) |  |  | 971 |  | 10,700 hrs. $810,953.00.
Sub-Total of ongoing burden averaged over three years |  |  | 323.67 (rounded) |  | 3,566.67 hrs. (rounded) $270,317.92.
Proposed Total Annual Burden Estimate of EOP-011-4 (one-time plus ongoing) |  |  | 647.34 |  | 15,779.67 hrs. $1,195,941.19 (rounded).

Table 2—Proposed Changes to FERC 725A Due to Modifications in Docket No. RD24-1-000
Requirement change | Type ⁵ and number of respondents | Annual number of annual responses per respondent | Total number of responses | Average burden & cost per response ⁶ | Total annual burden hours & total annual cost
| (1) | (2) | (1) * (2) = (3) | (4) | (3) * (4) = (5)
FERC-725A—Proposed estimates due to RD24-1
One Time Estimate—Years 1 and 2 in TOP-002-5
TOP-002-5 | 98 (BA) | 1 | 98 | 40 hrs. $3,031.60 | 3,920 hrs. $297,096.80.
Ongoing Estimate—Year 3 ongoing TOP-002-5
TOP-002-5 | 98 (BA) | 1 | 98 | 20 hrs. $1,515.80 | 1,960 hrs. $148,548.40.
Sub-Total of One-Time estimate for years 1 and 2 |  |  | 98 | 40 hrs. $3,031.60 | 3,920 hrs. $297,096.80
Sub-Total for Ongoing estimate of year 3 and beyond |  |  | 98 | 20 hrs. $1,515.80 | 1,960 hrs. $148,548.40.
Annualized one-time Total burden for years 1 and 2 (one-time sub-total divided by 3) |  |  | 32.67 (rounded) | 13.33 hrs. (rounded) $1,010.28 | 1,306.67 hrs. $99,032.52 (rounded).
Annualized ongoing total burden for years 3 and beyond (ongoing sub-total divided by 3) |  |  | 32.67 (rounded) | 6.67 hrs. $505.52 (rounded) | 653.33 hrs. $49,515.88 (rounded).
Annualized Total Burden Estimate of TOP-002-5 |  |  | 65.34 | 20 hrs. $1,515.80 | 1,960 hrs. 148,548.40.

³ TOP = Transmission Operator, BA = Balancing Authority, RC = Reliability Coordinator, UFLS-Only DP = Underfrequency Load Shed-Only Distribution Provider, DP = Distribution Provider, and TO = Transmission Owner.

⁴ The estimated hourly cost (salary plus benefits) is a combination based on the Bureau of Labor Statistics (BLS), as of 2023, for 75% of the average of an Electrical Engineer (17-2071)−$77.29, mechanical engineers (17-2141)−$87.38. $77.29 + $87.38/2 = 82.335 × .75 = 54.303 ($61.75 rounded) ($61.75/hour) and 25% of an Information and Record Clerk (43-4199) $56.14 × .25% = 14.035 ($14.04 rounded) ($14.04/hour), for a total ($61.75 + $14.04 = $75.79/hour).

⁵ BA = Balancing Authority.

⁶ The estimated hourly cost (salary plus benefits) is a combination based on the Bureau of Labor Statistics (BLS), as of 2023, for 75% of the average of an Electrical Engineer (17-2071)−$77.29, mechanical engineers (17-2141)−$87.38. $77.29 + $87.38/2 = 82.335 × .75 = 54.303 ($61.75 rounded) ($61.75/hour) and 25% of an Information and Record Clerk (43-4199) $56.14 × .25% = 14.035 ($14.04 rounded) ($14.04/hour), for a total ($61.75 + $14.04 = $75.79/hour).

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Debbie-Anne A. Reese,
Acting Secretary.

[FR Doc. 2024-09827 Filed 5-6-24; 8:45 am]

BILLING CODE 6717-01-P